DEPARTMENT OF HEALTH AND HUMAN SERVICES

Centers for Disease Control and Prevention

[30 Day-04-0215]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call the CDC Reports Clearance Officer at (404) 498-1210 or send an e-mail to omb@cdc.gov. Send written comments to CDC Desk Officer, Human Resources and Housing Branch, New Executive Office Building, Room 10235, Washington, DC 20503 or by fax to (202) 395-6974. Written comments should be received within 30 days of this notice.

Proposed Project

Application Form and Related Forms for the Operation of the National Death Index, (0920-0215)—Extension—National Center for Health Statistics (NCHS), Centers for Disease Control and Prevention (CDC).

Background

The National Death Index (NDI) is a national data base containing identifying death record information submitted annually to NCHS by all the state vital statistics offices, beginning with deaths in 1979. Searches against the NDI file provide the states with dates of death, and the death certificate numbers of deceased study subjects. Since the implementation of the NDI Plus service, researchers have the option of also receiving cause of death information for deceased subjects, thus reducing the need to request copies of death certificates from the states. The NDI Plus option currently provides the ICD codes for the underlying and multiple causes of death for the years 1979-2002. Health researchers must complete five administrative forms in order to apply for NDI services, and submit records of study subjects for computer matching against the NDI file. While there are five forms, it is rare for an NDI user to complete more than one of each per year; therefore, the burden table addresses respondents and not forms. There are no costs to respondents except for their time. The estimated annualized burden is 228 hours.

Respondents | No. of respondents | No. of responses per respondents | Average burden per response (in hrs.)
Government researchers | 48 | 1 | 1.9
University researchers | 60 | 1 | 1.9
Private industry researchers | 12 | 1 | 1.9

Dated: October 6, 2004.
Alvin Hall,
Director, Management Analysis and Services Office, Centers for Disease Control and Prevention.

[FR Doc. 04-23024 Filed 10-13-04; 8:45 am]

BILLING CODE 4163-18-P